DEPARTMENT OF AGRICULTURE

Forest Service

Revision of the Land Management Plan for the Flathead National Forest and Amending the Land Management Plans of the Helena-Lewis and Clark, Kootenai, and Lolo National Forests

AGENCY: Forest Service, USDA.

ACTION: Notice of opportunity to object to the Revised Land and Resource Management Plan and to forest plan amendments.

SUMMARY: The Forest Service is revising the Flathead National Forest's Land and Resource Management Plan (forest plan). The Forest Service is concurrently amending the forest plans of the Helena-Lewis and Clark, Kootenai, and Lolo National Forests to incorporate habitat management direction for the Northern Continental Divide Ecosystem (NCDE) grizzly bear population. The Flathead National Forest is proposing to incorporate the NCDE grizzly bear habitat management direction as part of its plan revision process. The Forest Service has prepared a single Final Environmental Impact Statement (FEIS) for its revised forest plan and the forest plan amendments, a draft Record of Decision (ROD) for the revised forest plan, and a draft ROD for the forest plan amendments.

This notice is to inform the public that a 60-day period is being initiated where individuals or entities with specific concerns on the Flathead National Forest's Revised Land Management Plan and the Northern Continental Divide Ecosystem Grizzly Bear Conservation Strategy forest plan amendments for the Helena-Lewis and Clark, Kootenai, and Lolo National Forests and its associated FEIS may file objections for Forest Service review prior to the approval of the Revised Land Management Plan and forest plan amendments. This is also an opportunity to object to the Regional Forester's list of species of conservation concern for the Flathead National Forest.

DATES: The FEIS, Flathead National Forest revised forest plan, other supporting documentation, and the draft RODs are available for review starting December 1, 2017 on the forest plan revision web page: www.fs.usda.gov/goto/flathead/fpr; on the forest plan amendments web page: www.fs.usda.gov/goto/flathead/gba; and the Northern Region species of conservation concern web page: http://bit.ly/NorthernRegion-SCC.

ADDRESSES: The following address should be used for objections submitted by regular mail, private carrier, or hand delivery: Objection Reviewing Officer, USDA Forest Service, Northern Region, 26 Fort Missoula Road, Missoula, MT 59804. Office hours are Monday through Friday, 8:00 a.m. to 4:30 p.m., excluding Federal holidays. Please be explicit as to whether the objection is for the Flathead Forest Plan, the NCDE Grizzly Bear Forest Plan Amendments, or the Flathead Species of Conservation Concern.

Objections can be faxed to the Objection Reviewing Officer at (406) 329-3411. The fax coversheet must include a subject line with “Flathead Forest Plan Objection,” “NCDE Grizzly Bear Forest Plan Amendments,” or “Flathead Species of Conservation Concern” and should specify the number of pages being submitted. Electronic objections must be submitted to the Objection Reviewing Officer via email to appeals-northern-regional-office@fs.fed.us, with “Flathead Forest Plan Objection,” “NCDE Grizzly Bear Forest Plan Amendments,” or “Flathead Species of Conservation Concern” in the subject line. Electronic submissions must be submitted in a format that is readable with optical character recognition software (e.g. Word, PDF, Rich Text) and be searchable. An automated response should confirm your electronic objection has been received.

FOR FURTHER INFORMATION CONTACT: Project Leader, Joe Krueger, 650 Wolfpack Way, Kalispell, MT 59901, (406) 758-5243. Additional information concerning the draft RODs may be obtained on the internet at the websites listed in the ADDRESSES section of this document.

Individuals who use telecommunication devices for the deaf (TDD) may call the Federal Information Relay Service (FIRS) at 1-800-877-8339 between 8:00 a.m. and 8:00 p.m., Eastern Standard Time, Monday through Friday.

SUPPLEMENTARY INFORMATION: A legal notice of the initiation of the 60-day objection period is being published in the Flathead, Helena-Lewis and Clark, Kootenai, and Lolo National Forests' newspapers of record: Daily Interlake, Great Falls Tribune, Missoulian, and Helena Independent. The date of the publication of the legal notices will determine the actual date of initiation of the 60-day objection period. A copy of the legal notices published in the newspapers of record will be posted on the websites listed above.

The decisions to approve the revised forest plan for the Flathead National Forest, the NCDE Grizzly Bear Forest Plan Amendments, and the Regional Forester's list of species of conservation concern will be subject to the objection process identified in 36 CFR part 219 subpart B (219.50 to 219.62). An objection must include the following (36 CFR 219.54(c)):

(1) The objector's name and address along with a telephone number or email address if available. In cases where no identifiable name is attached to an objection, the Forest Service will attempt to verify the identity of the objector to confirm objection eligibility;

(2) Signature or other verification of authorship upon request (a scanned signature for electronic mail may be filed with the objection);

(3) Identification of the lead objector, when multiple names are listed on an objection. The Forest Service will communicate to all parties to an objection through the lead objector. Verification of the identity of the lead objector must also be provided if requested;

(4) The name of the plan revision or forest plan amendment being objected to, and the name and title of the responsible official;

(5) A statement of the issues and/or parts of the plan revision to which the objection applies;

(6) A concise statement explaining the objection and suggesting how the proposed plan decision may be improved. If the objector believes that the plan revision is inconsistent with law, regulation, or policy, an explanation should be included;

(7) A statement that demonstrates the link between the objector's prior substantive formal comments and the content of the objection, unless the objection concerns an issue that arose after the opportunities for formal comment; and

(8) All documents referenced in the objection (a bibliography is not sufficient), except that the following need not be provided:

a. All or any part of a Federal law or regulation,

b. Forest Service Directive System documents and land management plans or other published Forest Service documents,

c. Documents referenced by the Forest Service in the planning documentation related to the proposal subject to objection, and

d. Formal comments previously provided to the Forest Service by the objector during the plan revision comment period.

Responsible Official

The responsible official who will approve the ROD for the Flathead National Forest revised forest plan is Chip Weber, Forest Supervisor for the Flathead National Forest, 650 Wolfpack Way, Kalispell, MT 59901, (406) 758-5208.

The Regional Forester is the reviewing officer for the revised plan since the Forest Supervisor is the deciding official (36 CFR 219.56(e)(2)). The Flathead National Forest will provide the Regional Forester with public comments received on species of conservation concern (SCC). The Regional Forester will consider comments received and respond to them in the FEIS and ROD. The decision to approve the SCC list will be subject to a separate objection process. The Chief of the Forest Service is the reviewing officer for SCC identification since the Regional Forester is the deciding official (36 CFR 219.56(e)(2)). Information about species of conservation concern is available at http://bit.ly/NorthRegion-SCC.

Dated: November 16, 2017.
Jeanne M. Higgins,
Acting Associate Deputy Chief, National Forest System.

[FR Doc. 2017-26952 Filed 12-14-17; 8:45 am]

BILLING CODE 3411-15-P